DEPARTMENT OF TRANSPORTATION

Federal Aviation Administration

14 CFR Part 39

[Docket No. FAA-2006-25389; Directorate Identifier 2006-NM-059-AD; Amendment 39-14870; AD 2006-26-12]

RIN 2120-AA64

Airworthiness Directives; Airbus Model A330, A340-200, and A340-300 Series Airplanes

AGENCY: Federal Aviation Administration (FAA), Department of Transportation (DOT).

ACTION: Final rule.

SUMMARY: The FAA is superseding an existing airworthiness directive (AD), which applies to all Airbus Model A330, A340-200, and A340-300 series airplanes. That AD currently requires repetitive inspections of a certain bracket that attaches the flight deck instrument panel to the airplane structure; replacement of the bracket with a new, improved bracket; and related investigative and corrective actions if necessary. This new AD requires replacement of the existing bracket with a titanium-reinforced bracket, which ends the repetitive inspections in the existing AD. This AD also requires related investigative and corrective actions while accomplishing the replacement, and reduces the applicability in the existing AD. This AD results from a report of cracking damage found on certain brackets that were replaced per the requirements in the existing AD. We are issuing this AD to prevent a cracked bracket. Failure of this bracket, combined with failure of the horizontal beam, could result in collapse of the left part of the flight deck instrument panel, and consequent reduced controllability of the airplane.

DATES: This AD becomes effective February 8, 2007.

The Director of the Federal Register approved the incorporation by reference of certain publications listed in the AD as of February 8, 2007.

On April 25, 2005 (70 FR 13345, March 21, 2005), the Director of the Federal Register approved the incorporation by reference of Airbus Service Bulletin A330-25-3227, including Appendix 01, dated June 17, 2004; and Airbus Service Bulletin A340-25-4230, including Appendix 01, dated June 17, 2004.

ADDRESSES: You may examine the AD docket on the Internet at http://dms.dot.gov or in person at the Docket Management Facility, U.S. Department of Transportation, 400 Seventh Street SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-06-08, amendment 39-14016 (70 FR 13345, March 21, 2005). The existing AD applies to all Airbus Model A330, A340-200, and A340-300 series airplanes. That NPRM was published in the Federal Register on July 19, 2006 (71 FR 40942). That NPRM proposed to continue to require repetitive inspections of a certain bracket that attaches the flight deck instrument panel to the airplane structure; replacement of the bracket with a new, improved bracket; and related investigative and corrective actions if necessary. The NPRM also proposed to add a requirement for replacement of the existing bracket with a titanium-reinforced bracket, which would end the repetitive inspections in the existing AD. The NPRM also proposed to require related investigative and corrective actions while accomplishing the replacement, and to reduce the applicability in the existing AD.

Comments

We provided the public the opportunity to participate in the development of this AD. We have considered the comments that have been received on the NPRM.

Request To Change Applicability

Airbus suggests that the referenced service bulletins in paragraph (k) of the NPRM be added to the applicability in paragraph (c) of the NPRM. Airbus states that airplanes modified in service would then be excluded from the applicability after the service bulletins are done.

We disagree with Airbus. The applicability of European Aviation Safety Agency (EASA) airworthiness directives 2006-0045 and 2006-0047, both dated February 16, 2006, excludes airplanes on which Airbus Service Bulletins A330-25-3249 and A340-25-4245, both dated May 3, 2005, have been accomplished in service. However, we have not excluded those airplanes in the applicability of the AD; rather, the AD includes a requirement to accomplish the actions specified in those service bulletins. This requirement will ensure that the actions specified in the service bulletins and required by this AD are accomplished on all affected airplanes. Operators must continue to operate the airplane in the configuration required by this AD unless an alternative method of compliance (AMOC) is approved. We have made no change to the AD in this regard.

Request To Clarify Certain Requirements

Airbus suggests that paragraph (k) of the NPRM refer to Airbus (inspection) Service Bulletins A330-25-3227 and A340-25-4230, both Revision 01, both dated May 3, 2005, to avoid confusion with Airbus (modification) Service Bulletins A330-25-3249 and A340-25-4245, both dated May 3, 2005.

We agree with Airbus. We have changed paragraph (f) of this AD to limit the (inspection) service bulletin reference to paragraphs (g), (h), and (i) of this AD. In addition, we have changed paragraph (k) of this AD to refer to (modification) Airbus Service Bulletins A330-25-3249 and A340-25-4245, both dated May 3, 2005.

Airbus also suggests that the description of the related investigative and corrective actions specified in parenthesis in paragraph (k) be expanded, for clarification, to include the horizontal beam.

We do not agree with Airbus. The description in parenthesis is informational only; there is no need to expand it further as the description is not meant to be all inclusive. We have made no change to the AD in this regard.

Request To Remove Part Number

Airbus recommends removing the reference to titanium-reinforced brackets having part number (P/N) F2511305220096, as specified in paragraph (k) of the NPRM. Airbus states that referring to a specific part number for the replacement brackets may suggest that no other part number is acceptable. Airbus adds that, if a new or upgraded part is released in the field (illustrated parts catalog), installation of a new part number may lead to operator requests for information for the difference between the part number specified in the NPRM and any new part number. Airbus notes that this information would be technical documentation for demonstration of continued conformity to the AD. Airbus concludes that recording application of the referenced service bulletin should be adapted for compliance with the NPRM.

We do not agree with Airbus. Replacement of brackets, as specified in paragraph (k) of this AD, is to be accomplished in accordance with the Accomplishment Instructions of Airbus Service Bulletins A330-25-3249 and A340-25-4245, both dated May 3, 2005. Each of these service bulletins provides instructions for removal of the old bracket and installation of the new, reinforced bracket having P/N F2511305220096. Any other part number for the bracket, even if upgraded from those in the subject service bulletins, will need to be approved as an AMOC to paragraph (k) of this AD, in accordance with the requirements in paragraph (l) of this AD. We have made no change to the AD in this regard.

Request to Publish Service Information/Incorporate by Reference in NPRM

The Modification and Replacement Parts Association (MARPA) states that ADs are based on service information that originates from the type certificate holder or its suppliers. MARPA adds that manufacturer's service documents are privately authored instruments, generally having copyright protection against duplication and distribution. When a service document is incorporated by reference into a public document, such as an AD, pursuant to 5 U.S.C. 552(a) and 1 CFR part 51, it loses its private, protected status and becomes a public document. MARPA notes that if a service document is used as a mandatory element of compliance it should not simply be referenced, but should be incorporated by reference. MARPA believes that public laws, by definition, should be public, which means they cannot rely upon private writings for compliance. MARPA adds that the legal interpretation of a document is a question of law, not of fact; therefore, unless the service document is incorporated by reference it cannot be considered. MARPA is concerned that failure to incorporate essential service information could result in a court decision invalidating the AD.

MARPA also states that service documents incorporated by reference should be made available to the public by publication in the Docket Management System (DMS), keyed to the action that incorporates those documents. MARPA notes that the stated purpose of the incorporation by reference method is brevity, to keep from expanding the Federal Register needlessly by publishing documents already in the hands of the affected individuals. MARPA adds that, traditionally, “affected individuals” means aircraft owners and operators, who are generally provided service information by the manufacturer. MARPA adds that, a new class of affected individuals has emerged, since the majority of aircraft maintenance is now performed by specialty shops instead of aircraft owners and operators. MARPA notes that this new class includes maintenance and repair organizations, component servicing, and/or servicing alternatively certified parts under section 21.303 (“Replacement and modification parts”) of the Federal Aviation Regulations (14 CFR 21.303). MARPA notes that the concept of brevity is now nearly archaic as documents exist more frequently in electronic format than on paper. Therefore, MARPA asks that the service documents deemed essential to the accomplishment of the NPRM be incorporated by reference into the regulatory instrument and published in DMS.

We understand MARPA's concern about incorporating by reference service information. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, as noted by the commenter, they do not lose their copyright protection. For that reason, we advise the public to contact the manufacturer to obtain copies of the referenced service information.

In regard to MARPA's request to post service bulletins on the Department of Transportation's DMS, we are currently in the process of reviewing issues surrounding the posting of service bulletins on DMS as part of an AD docket. Once we have thoroughly examined all aspects of this issue and have made a final determination, we will consider whether our current practice needs to be revised. No change to the AD is necessary in response to these comments.

Requests Regarding Parts Manufacturer Approval (PMA) Parts

MARPA states that type certificate holders in their service documents universally ignore the possible existence of PMA parts. According to MARPA, this is especially true with foreign manufacturers where the concept may not exist or be implemented in the country of origin. MARPA states that frequently the service bulletin upon which an AD is based will require the removal of a certain part number and the installation of a different part number as a corrective action. MARPA states that this practice runs afoul of section 21.303 (“Replacement of modification parts”) of the Federal Aviation Regulations (14 CFR 21.303), which permits the development, certification, and installation of alternatively certified parts (PMA). MARPA states that mandating the installation of a certain part number to the exclusion of all other parts is not a favored general practice. According to MARPA, such action has the dual effect of preventing, in some cases, the installation of perfectly good parts, while at the same time prohibiting the development of new parts permitted under 14 CFR 21.303. MARPA states that such a prohibition runs the risk of taking the AD out of the realm of safety and into the world of economics since prohibiting the development, sale, and use of a perfectly airworthy part has nothing to do with safety. MARPA adds that courts could easily construe such actions as being outside the statutory basis of the AD (safety), and thus unenforceable. MARPA concludes that courts are reluctant to find portions of a rule unenforceable since they lack the knowledge and authority to rewrite requirements, and are generally inclined to void the entire rule.

In addition, MARPA believes that the practice of requiring an AMOC to install a PMA part should be stopped. MARPA states that this is somehow tantamount to illogically stating that all PMA parts are inherently defective and require an additional layer of approval when the original equipment manufacturer (OEM) part is determined to be defective. MARPA suspects that FAA personnel who diligently labored to certify the PMA part might disagree with such a narrow, OEM slanted view. MARPA adds that if the PMA part is defective then it must be deemed so in the AD, and not simply implied by a catch-all AMOC requirement. MARPA states that it has repeatedly requested that language be adopted to trap such defective parts. MARPA suggests that, to accomplish this, the Transport Airplane Directorate adopt the language used by the Small Airplane Directorate. MARPA adds that this action, as written, does not comply with proposed FAA Order 8040.2, which requires replacement or installation of certain parts, could have replacement parts approved under Federal Aviation Regulation 14 CFR 21.203, based on a finding of the part being identical.

MARPA also points out that another AD issued from a Directorate other than the Transport Airplane Directorate contains a blanket statement that resolves the PMA issue by adding the phrase, “or FAA-approved equivalent P/N” to the part number mandated to be installed. MARPA requests that the FAA modify the NPRM to include this language.

The NPRM did not address PMA parts, as provided in draft FAA Order 8040.2, because the Order was only a draft that was out for comment at the time. After issuance of the NPRM, the Order was revised and issued as FAA Order 8040.5 with an effective date of September 29, 2006. FAA Order 8040.5 does not address PMA parts in ADs.

The FAA recognizes the need for standardization of this issue and is currently in the process of reviewing issues that address the use of PMAs in ADs at the national level. However, the Transport Airplane Directorate considers that to delay this particular AD action would be inappropriate, since we have determined that an unsafe condition exists and that replacement of certain parts must be accomplished to ensure continued safety. Therefore, no change has been made to the AD in this regard.

Conclusion

We have carefully reviewed the available data, including the comments that have been received, and determined that air safety and the public interest require adopting the AD with the changes described previously. These changes will neither increase the economic burden on any operator nor increase the scope of the AD.

Costs of Compliance

This AD affects about 24 Model A330 series airplanes of U.S. registry.

The inspections that are required by AD 2005-06-08 and retained in this AD take about 1 work hour per airplane, at an average labor rate of $80 per work hour. Based on these figures, the estimated cost of the currently required actions is $80 per airplane, per inspection cycle.

The new replacement and investigative actions take about 9 work hours per airplane, at an average labor rate of $80 per work hour. Required parts will cost about $330 per airplane. Based on these figures, the estimated cost of the new actions specified in this AD for U.S. operators is $25,200, or $1,050 per airplane.

There are currently no affected Model A340-200 and -300 series airplanes of U.S. registry. However, if one of these airplanes is imported and put on the U.S. Register in the future, these cost estimates will also apply to those airplanes.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14016 (70 FR 13345, March 21, 2005) and by adding the following new airworthiness directive (AD):

2006-26-12 Airbus: Amendment 39-14870. Docket No. FAA-2006-25389; Directorate Identifier 2006-NM-059-AD.

Effective Date

(a) This AD becomes effective February 8, 2007.

Affected ADs

(b) This AD supersedes AD 2005-06-08.

Applicability

(c) This AD applies to Airbus Model A330, A340-200, and A340-300 series airplanes; certificated in any category; except airplanes on which Airbus Modification 53446 has been incorporated in production.

Unsafe Condition

(d) This AD results from a report of cracking damage found on certain brackets that were replaced to address an unsafe condition. We are issuing this AD to prevent a cracked bracket. Failure of this bracket, combined with failure of the horizontal beam, could result in collapse of the left part of the flight deck instrument panel, and consequent reduced controllability of the airplane.

Compliance

(e) You are responsible for having the actions required by this AD performed within the compliance times specified, unless the actions have already been done.

Restatement of Certain Requirements of AD 2005-06-08

Service Bulletin Reference

(f) The term “service bulletin,” as used in paragraphs (g), (h), and (i) of this AD, means the Accomplishment Instructions of Airbus Service Bulletins A330-25-3227 (for Model A330 series airplanes) and A340-25-4230 (for Model A340-200 and -300 series airplanes), both Revision 01, both dated May 3, 2005; as applicable. Accomplishment before the effective date of this AD of Airbus Service Bulletins A330-25-3227 and A340-25-4230, both including Appendix 01, both dated June 17, 2004, as applicable, is an acceptable means of compliance for paragraphs (g), (h), and (i) of this AD.

Initial Inspection

(g) At the applicable time specified in paragraph (g)(1) or (g)(2) of this AD, perform a detailed inspection of the bracket having part number (P/N) F2511012920000, which attaches the flight deck instrument panel to airplane structure, in accordance with the applicable service bulletin.

(1) For Model A330 series airplanes: Prior to the accumulation of 16,500 total flight cycles, or within 60 days after April 25, 2005 (the effective date of AD 2005-06-08), whichever is later.

(2) For Model A340-200 and -300 series airplanes: Prior to the accumulation of 9,700 total flight cycles, or within 2,700 flight cycles after April 25, 2005, whichever is later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracking/Repetitive Inspections

(h) If no crack is found during the initial inspection required by paragraph (g) of this AD: Repeat the inspection thereafter at the applicable interval specified in paragraph (h)(1) or (h)(2) of this AD, until the replacement specified in paragraph (k) of this AD has been accomplished.

(1) For Model A330 series airplanes: Intervals not to exceed 13,800 flight cycles.

(2) For Model A340-200 and -300 series airplanes: Intervals not to exceed 7,000 flight cycles.

Crack Found/Replacement and Repetitive Inspections

(i) If any crack is found during any inspection required by paragraph (g) or (h) of this AD: Do the actions in paragraphs (i)(1) and (i)(2) of this AD, except as provided by paragraph (j) of this AD, until accomplishment of the replacement required by paragraph (k) of this AD.

(1) Before further flight: Replace the cracked bracket with a new, improved bracket having P/N F2511012920095, in accordance with the service bulletin.

(2) Repeat the inspection of the replaced bracket as required by paragraph (g) of this AD, at the time specified in paragraph (i)(2)(i) or (i)(2)(ii) of this AD. Then, do repetitive inspections or replace the bracket as specified in paragraph (h) or (i) of this AD, as applicable.

(i) For Model A330 series airplanes: Within 16,500 flight cycles after replacing the bracket.

(ii) For Model A340-200 and -300 series airplanes: Within 9,700 flight cycles after replacing the bracket.

(j) If both flanges of a bracket are found broken during any inspection required by this AD: Before further flight, replace the bracket as specified in paragraph (i) of this AD and perform any applicable related investigative and corrective actions (which may include inspections for damage to surrounding structure caused by the broken bracket, and corrective actions for any damage that is found), in accordance with a method approved by the Manager, International Branch, ANM-116, Transport Airplane Directorate, FAA; or the European Aviation Safety Agency (EASA) (or its delegated agent).

New Requirements of This AD

Replacement of Brackets/Investigative and Corrective Actions

(k) Except as required by paragraph (i)(1) of this AD: Within 72 months after the effective date of this AD, replace existing brackets having P/N F2511012920000 or P/N F2511012920095 with titanium-reinforced brackets having P/N F2511305220096; and perform any related investigative and corrective actions (which may include detailed inspections for cracking of the bracket or damage to surrounding structure caused by a broken bracket, and applicable corrective actions for any damage that is found); in accordance with the Accomplishment Instructions of Airbus Service Bulletins A330-25-3249 and A340-25-4245, excluding Appendix 01, both dated May 3, 2005, as applicable. If any crack is found, before further flight, repair in accordance with the applicable service bulletin. Replacement of the affected bracket with a titanium-reinforced bracket having P/N F2511305220096 ends the repetitive inspections required by paragraph (h) or (i) of this AD. Although the service bulletins specify to submit certain information to the manufacturer, this AD does not include that requirement.

Alternative Methods of Compliance (AMOCs)

(l)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(m) EASA airworthiness directives 2006-0045 and 2006-0047, both dated February 16, 2006, also address the subject of this AD.

Material Incorporated by Reference

(n) You must use the applicable service bulletin specified in Table 1 of this AD to perform the actions that are required by this AD, unless the AD specifies otherwise.

(1) The Director of the Federal Register approved the incorporation by reference of the service bulletins specified in Table 2 of this AD in accordance with 5 U.S.C. 552(a) and 1 CFR part 51.

(2) On April 25, 2005 (70 FR 13345, March 21, 2005), the Director of the Federal Register approved the incorporation by reference of Airbus Service Bulletin A330-25-3227, including Appendix 01, dated June 17, 2004; and Airbus Service Bulletin A340-25-4230, including Appendix 01, dated June 17, 2004.

(3) Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—All Material Incorporated by Reference
Airbus service bulletin | Revision level | Date
A330-25-3227, including Appendix 01 | Original | June 17, 2004.
A330-25-3227, excluding Appendix 01 | 01 | May 3, 2005.
A330-25-3249 | Original | May 3, 2005.
A340-25-4230, including Appendix 01 | Original | June 17, 2004.
A340-25-4230, excluding Appendix 01 | 01 | May 3, 2005.
A340-25-4245 | Original | May 3, 2005.

Table 2.—New Material Incorporated by Reference
Airbus service bulletin | Revision level | Date
A330-25-3227, excluding Appendix 01 | 01 | May 3, 2005.
A330-25-3249 | Original | May 3, 2005.
A340-25-4230, excluding Appendix 01 | 01 | May 3, 2005.
A340-25-4245 | Original | May 3, 2005.

Issued in Renton, Washington, on December 21, 2006.
Ali Bahrami,
Manager, Transport Airplane Directorate, Aircraft Certification Service.

[FR Doc. E6-22473 Filed 1-3-07; 8:45 am]

BILLING CODE 4910-13-P